DEPARTMENT OF ENERGY

Federal Energy Regulatory Commission

Combined Notice of Filings

Take notice that the Commission has received the following Natural Gas Pipeline Rate and Refund Report filings:

Docket Number: PR21-20-001.

Applicants: Red Bluff Express Pipeline, LLC.

Description: Tariff filing per 284.123(b),(e)/: Red Bluff Express Pipeline, LLC Amended SOC Effective January 1, 2021 to be effective 1/1/2021.

Filed Date: 7/16/2021.

Accession Number: 202107165060.

Comments/Protests Due: 5 p.m. ET 7/30/2021.

Docket Number: PR21-55-000.

Applicants: Louisville Gas and Electric Company.

Description: Tariff filing per 284.123(b),(e)/: Operating Statement Rate Change Exhibit A to be effective 6/28/2021.

Filed Date: 7/16/2021.

Accession Number: 202107165026.

Comments/Protests Due: 5 p.m. ET 8/6/2021.

Docket Numbers: RP21-949-001.

Applicants: LA Storage, LLC.

Description: Tariff Amendment: Amendment to Correct Negotiated Non-Conforming Agreement to be effective 7/1/2021.

Filed Date: 7/16/21.

Accession Number: 20210716-5157.

Comments Due: 5 p.m. ET 7/28/21.

Docket Numbers: RP21-969-000.

Applicants: Arlington Storage Company, LLC.

Description: Compliance filing Informational Filing Concerning MBR Authority.

Filed Date: 7/16/21.

Accession Number: 20210716-5138.

Comments Due: 5 p.m. ET 7/28/21.

Docket Numbers: RP21-970-000.

Applicants: Stagecoach Pipeline & Storage Company LLC.

Description: Compliance filing Informational Filing Concerning MBR Authority.

Filed Date: 7/16/21.

Accession Number: 20210716-5141.

Comments Due: 5 p.m. ET 7/28/21.

Docket Numbers: RP21-971-000.

Applicants: Tennessee Gas Pipeline Company, L.L.C.

Description: Compliance filing Informational Filing Concerning Market-Based Rate Authority.

Filed Date: 7/16/21.

Accession Number: 20210716-5142.

Comments Due: 5 p.m. ET 7/28/21.

Docket Numbers: RP21-972-000.

Applicants: Colorado Interstate Gas Company, L.L.C.

Description: § 4(d) Rate Filing: Wobbe Number Modification Filing to be effective 8/15/2021.

Filed Date: 7/16/21.

Accession Number: 20210716-5150.

Comments Due: 5 p.m. ET 7/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2021.
Debbie-Anne A. Reese,
Deputy Secretary.

[FR Doc. 2021-15696 Filed 7-22-21; 8:45 am]

BILLING CODE 6717-01-P